DEPARTMENT OF STATE

[Public Notice 3794]

Determination Regarding Export-Import Bank Financing of Certain Defense Articles and Services for the Government of Venezuela

Pursuant to section 2(b)(6) of the Export-Import Bank Act of 1945, as amended, Executive Order 11958 of January 18, 1977, as amended by Executive Order 12680 of July 5, 1989, and State Department Delegation of Authority No. 245 of April 23, 2001, I hereby determine that:

(1) The defense articles and services for which the Government of Venezuela has requested Export-Import Bank (Ex-Im) financing, air conditioning equipment and diesel engines for the modification of four armed Landing Ship, Tank (LST) vessels as part of an ongoing planned modification and upgrading of the vessels, are being sold primarily for anti-narcotics purposes.

(2) The sale of such defense articles and services is in the national interest of the United States.

(3) The requirements for a determination that the Government of Venezuela has complied with all U.S.-imposed end-use restrictions on the use of defense articles and services previously financed under the Act is inapplicable at this time because the four previous transactions have not been completed. Specifically, although Ex-Im has approved financing in connection with the refurbishment of 12 OV-10 aircraft, the refurbishment has not been completed; two 150-foot logistic support vessels sold with Ex-Im financing have not been delivered; parts financed by Ex-Im for the modification of four frigates have not been installed; and reverse osmosis water purification equipment for the four LSTs has not yet been delivered or installed.

(4) The requirement for a determination that the Government of Venezuela has not used defense articles or services previously provided under the Act to engage in a consistent pattern of gross violations of internationally recognized human rights is also inapplicable at this time. As stated above, Ex-Im financing has been used in connection with four defense articles or services transactions involving the Government of Venezuela. One transaction involves the refurbishment of aircraft, the second the delivery of two vessels, the third the modification of four frigates, and a fourth the modification of four LSTs, none of which has been completed.

This determination shall be reported to Congress and shall be published in the Federal Register.

Dated: June 19, 2001.
Richard L. Armitage,
Deputy Secretary of State, U.S. Department of State.

[FR Doc. 01-24909 Filed 10-3-01; 8:45 am]

BILLING CODE 4710-07-P